DEPARTMENT OF STATE

[Public Notice 12045]

Notice of Public Meeting in Preparation for International Maritime Organization NCSR 10 Meeting

The Department of State will conduct a public meeting at 11 a.m. on Wednesday, May 3, 2023, both in-person at Coast Guard Headquarters in Washington, DC, and via teleconference. The primary purpose of the meeting is to prepare for the 10th session of the International Maritime Organization's (IMO) Sub-Committee on Navigation, Communication, and Search and Rescue (NCSR 10) to be held in London, United Kingdom from Wednesday, May 10, 2023, to Friday, May 19, 2023.

Members of the public may participate up to the capacity of the teleconference phone line, which can handle 500 participants or up to the seating capacity of the room if attending in-person. The meeting location will be the United States Coast Guard Headquarters, Room 5L18-00/01, and to access the teleconference line, participants should call 202-475-4200, use meeting Code 2135101#, and when prompted enter participant PIN 32291450#. To RSVP, participants should contact the meeting coordinator, Mr. George Detweiler, by email at George.H.Detweiler@uscg.mil. Mr. Detweiler will provide access information for in-person and virtual attendance.

The agenda items to be considered at this meeting mirror those to be considered at NCSR 10, and include:

• Adoption of the agenda

• Decisions of other IMO bodies

• Routeing measures and mandatory ship reporting systems

• Updates to the LRIT system

• Development of generic performance standards for shipborne satellite navigation system receiver equipment

• Development of amendments to SOLAS chapters IV and V and performance standards and guidelines to introduce VHF data exchange system (VDES)

• Consideration of descriptions of Maritime Services in the context ofe-navigation

• Development of performance standards for a digital navigational data system (NAVDAT)

• Amendments to ECDIS Performance Standards (resolution MSC.530(106)) to facilitate a standardized digital exchange of ships' route plans

• Developments in GMDSS services, including guidelines on maritime safety information (MSI)

• Revision of the Criteria for the provision of mobile satellite communication services in the Global Maritime Distress and Safety System (GMDSS) (resolution A.1001(25))

• Response to matters related to the ITU-R Study Groups and ITU World Radiocommunication Conference

• Development of global maritime SAR services, including harmonization of maritime and aeronautical procedures

• Amendments to the IAMSAR Manual

• Development of amendments to VDR performance standards and carriage requirements

• Revision of SOLAS regulation V/23 and associated instruments to improve the safety of pilot transfer arrangements

• Unified interpretation of provisions of IMO safety, security, environment, facilitation, liability, and compensation-related conventions

• Validated model training courses

• Biennial status report and provisional agenda for NCSR 11

• Election of Chair and Vice-Chair for 2024

• Any other business

Please note: The IMO may, on short notice, adjust the NCSR 10 agenda to accommodate the constraints associated with the meeting format. Any changes to the agenda will be reported to those who RSVP.

Those who plan to participate should contact the meeting coordinator, George Detweiler, by email at George.H.Detweiler@uscg.mil, by phone at (202) 372-1566, or in writing at 2703 Martin Luther King Jr. Ave. SE, Stop 7418, Washington, DC 20593-7418 not later than April 27, 2023. Please note, that due to security considerations, two valid, government issued photo identifications must be presented to gain entrance to the Douglas A. Munro Coast Guard Headquarters Building at St. Elizabeth's. This building is accessible by taxi, public transportation, and privately owned conveyance (upon request). Additionally, members of the public needing reasonable accommodation should advise the meeting coordinator not later than April 27, 2023. Requests made after that date will be considered but might not be able to be fulfilled.

Additional information regarding this and other IMO public meetings may be found at: https://www.dco.uscg.mil/IMO.

(Authority: 22 U.S.C. 2656 and 5 U.S.C. 552)

Emily A. Rose,
Coast Guard Liaison Officer, Office of Ocean and Polar Affairs, Department of State.

[FR Doc. 2023-08114 Filed 4-17-23; 8:45 am]

BILLING CODE 4710-09-P